DEPARTMENT OF COMMERCE

National Oceanic and Atmospheric Administration

50 CFR Part 622

[Docket No. 100217097-1757-02; RTID 0648-XB450]

Reef Fish Fishery of the Gulf of Mexico; 2021 Commercial and Recreational Accountability Measure and Closures for Gulf of Mexico Lane Snapper

AGENCY: National Marine Fisheries Service (NMFS), National Oceanic and Atmospheric Administration (NOAA), Commerce.

ACTION: Temporary rule; closure.

SUMMARY: NMFS implements an accountability measure (AM) for the lane snapper commercial and recreational sectors in the exclusive economic zone (EEZ) of the Gulf of Mexico (Gulf) for the 2021 fishing year through this temporary rule. NMFS has projected that the 2021 stock annual catch limit (ACL) for Gulf lane snapper will be reached by October 18, 2021. Therefore, NMFS closes the commercial and recreational sectors for Gulf lane snapper on October 18, 2021, and they will remain closed through the end of the current fishing year on December 31, 2021. These closures are necessary to protect the Gulf lane snapper resource.

DATES: This temporary rule is effective from 12:01 a.m., local time, on October 18, 2021, until 12:01 a.m., local time, on January 1, 2022.

FOR FURTHER INFORMATION CONTACT: Kelli O'Donnell, NMFS Southeast Regional Office, telephone: 727-824-5305, email: Kelli.ODonnell@noaa.gov.

SUPPLEMENTARY INFORMATION: NMFS manages the Gulf reef fish fishery, which includes lane snapper, under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) through regulations at 50 CFR part 622. All lane snapper weights discussed in this temporary rule are in round weight.

The stock ACL for Gulf lane snapper is 301,000 lb (136,531 kg). As specified in 50 CFR 622.41(k), if during a fishing year the sum of the commercial and recreational lane snapper landings exceeds the stock ACL, then during the following fishing year, if the sum of commercial and recreational landings reaches or is projected to reach the stock ACL, NMFS is required to close the commercial and recreational sectors for the remainder of that fishing year. In the 2020 fishing year, lane snapper landings exceeded the stock ACL by 57,638 lb (26,144 kg). For the 2021 fishing year, NMFS has determined that the 2021 stock ACL for Gulf lane snapper will be reached by October 18, 2021. Accordingly, this temporary rule closes the commercial and recreational sectors for Gulf lane snapper effective at 12:01 a.m., local time, on October 18, 2021, and both sectors will remain closed through the end of the current fishing year on December 31, 2021.

During the commercial and recreational closures, the commercial sale or purchase of lane snapper taken from the Gulf EEZ is prohibited and all harvest or possession in or from the Gulf EEZ of lane snapper is prohibited. The prohibition on possession of Gulf lane snapper also applies in Gulf state waters for a vessel issued a valid Federal charter vessel/headboat permit for Gulf reef fish. During the closures, the operator of a vessel with a valid commercial vessel permit for Gulf reef fish having lane snapper on board must have landed and bartered, traded, or sold such lane snapper prior to 12:01 a.m., local time, on October 18, 2021. The prohibition on the sale or purchase of lane snapper does not apply to fish that were harvested, landed ashore, and sold prior to 12:01 a.m., local time, on October 18, 2021, and were held in cold storage by a dealer or processor.

Classification

NMFS issues this action pursuant to section 305(d) of the Magnuson-Stevens Act. This action is required by 50 CFR 622.41(k), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the lane snapper commercial and recreational sectors at 50 CFR 622.41(k) have already been subject to notice and public comment, and all that remains is to notify the public of the closure. Prior notice and opportunity for public comment are contrary to the public interest because there is a need to immediately implement this action to protect the lane snapper stock and provide vessel owners and operators with as much time as possible to adjust their planned fishing. Prior notice and opportunity for public comment would require time and would potentially allow the sectors to exceed the stock ACL.

For the aforementioned reasons, the Assistant Administrator also finds good cause to waive the 30-day delay in the effectiveness of this action under 5 U.S.C. 553(d)(3).

Authority: 16 U.S.C. 1801 et seq.

Dated: September 29, 2021.
Jennifer M. Wallace,
Acting Director, Office of Sustainable Fisheries, National Marine Fisheries Service.

[FR Doc. 2021-21527 Filed 9-29-21; 4:15 pm]

BILLING CODE 3510-22-P